DEPARTMENT OF COMMERCE

Foreign-Trade Zones Board

[Order No. 1598]

Approval of Manufacturing Authority Within Foreign-Trade Zone 158m Vicksburg/Jackson, MS, Lane Furniture Industries, Inc. (Upholstered Furniture)

Pursuant to its authority under the Foreign-Trade Zones Act of June 18, 1934, as amended (19 U.S.C. 81a-81u) (the Act), the Foreign-Trade Zones Board (the Board) adopts the following Order:

Whereas, the Greater Mississippi Foreign-Trade Zone, Inc., grantee of FTZ 158, has requested authority under Section 400.28 (a)(2) of the Board's regulations on behalf of Lane Furniture Industries, Inc. (Lane), to manufacture upholstered furniture and related parts under FTZ procedures within FTZ 158 Sites 14 (Belden, MS), 16 (Saltillo, MS), and 17 (Verona, MS) (FTZ Docket 28-2007, filed 7-26-2007);

Whereas, notice inviting public comment has been given in the Federal Register (72 FR 43233, 8-3-2007);

Whereas, the Board adopts the findings and recommendations of the examiner's report, and finds that the requirements of the FTZ Act and the Board's regulations would be satisfied, and that approval of the application would be in the public interest if approval were subject to certain restrictions;

Now, therefore, the Board hereby grants authority for the manufacture of upholstered furniture and related parts (upholstery seat covers) within FTZ 158 for Lane Furniture Industries, Inc., as described in the application and Federal Register notice, subject to the Act and the Board's regulations, including Section 400.28, and further subject to the following restrictions:

1)the manufacturing authority shall not commence earlier than January 2, 2009 and shall remain in effect for a period of five years from the later of January 2, 2009 or the date of approval;

2)the annual volume of the foreign micro-denier suede upholstery fabric finished with a caustic soda solution that Lane may admit to the zone under nonprivileged foreign status (19 CFR § 146.42) is limited to 6.5 million square yards;

3)Lane must admit all foreign-origin upholstery fabrics other than micro-denier suede upholstery fabric finished with a caustic soda solution to the zone under domestic (duty-paid) status (19 CFR § 146.43); and,

4)Lane shall submit supplemental annual report data for the purpose of monitoring by the FTZ Staff.

Signed at Washington, DC, this 22nd day of December 2008.

David M. Spooner,
Assistant Secretary of Commerce for Import Administration, Alternate Chairman, Foreign-Trade Zones Board.
Attest:
Andrew McGilvray,
Executive Secretary.

[FR Doc. E8-31360 Filed 1-2-09; 8:45 am]

BILLING CODE 3510-DS-S